FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 010977-053.

Title: Hispaniola Discussion Agreement.

Parties: Crowley Liner Services, Inc.; Seaboard Marine Ltd.; Tropical Shipping and Construction Co., Ltd.; and Frontier Liner Services, Inc.

Synopsis: The amendment removes Bernuth Agencies, Inc. as a party to the agreement.

Agreement No.: 011375-061.

Title: Trans-Atlantic Conference Agreement.

Parties: Atlantic Container Line AB; A.P. Moller-Maersk A/S; Hapag-Lloyd Container Linie GmbH; Mediterranean Shipping Company, S.A.; Nippon Yusen Kaisha; Orient Overseas Container Line Limited; and P&O Nedlloyd Limited.

Synopsis: The amendment deletes Russia from the geographic scope of the agreement and updates Maersk's corporate name.

Agreement No.: 011823-004.

Title: Contship/P&O Nedlloyd Vessel Sharing Agreement.

Parties: P&O Nedlloyd Limited, P&O Nedlloyd B.V., and Contship Containerlines.

Synopsis: The amendment revises the withdrawal provisions of the agreement.

Agreement No.: 011852-002.

Title: Maritime Security Discussion Agreement.

Parties: American President Lines, Ltd.; APL Co. PTE Ltd.; CMA-CGM (America) Inc.; COSCO Container Lines Company, Ltd.; Evergreen Marine Corporation; Hanjin Shipping Company, Ltd.; Hapag Lloyd Container Linie GmbH; Kawasaki Kisen Kaisha Ltd.; A.P. Moller Maersk Sealand; Mitsui O.S.K. Lines, Ltd.; Nippon Yusen Kaisha; Yang Ming Transport Corp.; Zim Israel Navigation Co., Ltd.; Ceres Terminals, Inc.; Cooper/T. Smith Stevedoring Co., Inc.; Eagle Marine Services Ltd.; Global Terminal & Container Services, Inc.; Howland Hook Container Terminal, Inc.; Husky Terminal & Stevedoring, Inc.; International Shipping Agency; International Transportation Service, Inc.; Long Beach Container Terminal, Inc.; Maersk Pacific Ltd.; Maher Terminals, Inc.; Marine Terminals Corp.; Maryland Port Administration; Massachusetts Port Authority; Metropolitan Stevedore Co.; P&O Ports North American, Inc.; Port of Tacoma; South Carolina State Ports Authority; Stevedoring Services of America, Inc.; Trans Bay Container Terminal, Inc.; TraPac Terminals; Universal Maritime Service Corp.; and Virginia International Terminals.

Synopsis: The amendment adds CMA CGM and Massachusetts Port Authority as parties to the agreement.

Agreement No.: 201150.

Title: New Orleans/P&O Ports LA Napoleon Terminal Lease.

Parties: Board of Commissioners of the Port of New Orleans; P&O Ports Louisiana, Inc.

Synopsis: The agreement provides for the lease of certain properties at the Napoleon Avenue Terminal Complex. The agreement's initial term expires November 5, 2008.

Dated: November 7, 2003.
By Order of the Federal Maritime Commission.
Bryant L. VanBrakle,
Secretary.

[FR Doc. 03-28444 Filed 11-12-03; 8:45 am]

BILLING CODE 6730-01-P